DEPARTMENT OF THE INTERIOR

National Park Service

36 CFR Part 7

[NPS-GOGA-19691; PX.XGOGA1604.00.1]

RIN 1024-AE16

Special Regulations, Areas of the National Park Service, Golden Gate National Recreation Area, Dog Management—Extension of Public Comment Period and Corrections

AGENCY: National Park Service, Interior.

ACTION: Proposed rule; extension of public comment period; corrections.

SUMMARY: The National Park Service is extending the public comment period for the proposed rule to amend its special regulations for Golden Gate National Recreation Area regarding dog walking. Reopening the comment period for 30 days will allow more time for the public to review the proposal and submit comments. This document also corrects Table 4 to § 7.97 in the proposed rule by removing the designation of Ocean Beach as a Voice and Sight Control Area for walking four to six dogs that was included by an administrative error. The proposed rule also contained a typographical error in the email address for persons to contact the NPS for further information. The correct email address is goga_dogmgt@nps.gov.

DATES: The comment period for the proposed rule that published on February 24, 2016 (81 FR 9139), is extended. Comments must be received by 11:59 p.m. EDT on May 25, 2016.

ADDRESSES: You may submit comments, identified by Regulation Identifier Number (RIN) 1024-AE16, by any of the following methods:

• Federal eRulemaking Portal: www.regulations.gov. Follow the instructions for submitting comments after searching for RIN 1024-AE16.

• Mail or hand deliver to: General Superintendent, Golden Gate National Recreation Area, Attn: Dog Management Proposed Rule, Fort Mason, Building 201, San Francisco, CA 94123.

Instructions: All submissions received must include the agency name and (RIN) 1024-AE16 for this rulemaking. Comments received will be posted without change to www.regulations.gov, including any personal information provided. If you commented on the Draft Dog Management Plan/Supplemental Environmental Impact Statement (draft Plan/SEIS), your comment has been considered in drafting the proposed rule. Comments submitted during this comment period should focus on this proposed rule, not the draft Plan/SEIS. For example, the National Park Service invites comments on the definitions contained in the proposed rule and the clarity of the descriptions of areas open to dog walking; the rules and restrictions that apply to dog walking and to Voice and Sight Control areas; the rules and restrictions that apply to the permitting program for walking four to six dogs; and whether commercial dog walking should be allowed under the proposed rule. Comments on the draft Plan/SEIS will be considered untimely because the comment period on the draft Plan/SEIS has closed. Comments will not be accepted by fax, email, or in any way other than those specified above, and bulk comments in any format (hard copy or electronic) submitted on behalf of others will not be considered. Organizations should direct their members to submit comments individually using one of the methods described above.

FOR FURTHER INFORMATION CONTACT: Golden Gate National Recreation Area, Attn: Public Affairs Office (Alexandra Picavet), Fort Mason, Building 201, San Francisco, CA, 94123. Phone: (415) 561-4728. Email: goga_dogmgt@nps.gov.

SUPPLEMENTARY INFORMATION:

Extension of Public Comment Period

On February 24, 2014, the National Park Service (NPS) published in the Federal Register (81 FR 9139) a proposed rule to amend its special regulations for Golden Gate National Recreation Area regarding dog walking. The 60-day public comment period for this proposal would have closed on April 25, 2016. In order to give the public additional time to review and comment on the proposal, we are extending the public comment period through May 25, 2016. If you already commented on the proposed rule you do not have to resubmit your comments.

To view comments received through the Federal eRulemaking portal, go to http://www.regulations.gov and enter 1024-AE16 in the search box. Before including your address, phone number, email address, or other personal identifying information in your comment, you should be aware that your entire comment—including your personal identifying information—may be made publicly available at any time. While you can ask us in your comment to withhold your personal identifying information, we cannot guarantee that we will be able to do so. Please note that submissions merely stating support for or opposition to the action under consideration without providing supporting information, although noted, will not be considered in making a determination. Please make your comments as specific as possible and explain the basis for them.

Correction to Table 4

In the proposed rule on page 9150, make the following correction in Table 4 to § 7.97—Voice and Sight Control or On-Leash Dog Walking: Four to Six Dogs: Remove and reserve paragraph (E). This correction removes the designation of Ocean Beach as a Voice and Sight Control Area for walking four to six dogs, which was never intended to be designated this way and was included in Table 4 by an administrative error.

Correction of Email Address

In the proposed rule, on page 9140 in the first column, in the FOR FURTHER INFORMATION CONTACT section, correct the email address for interested parties to contact the NPS from “goga_dogmtg@nps.gov” to “goga_dogmgt@nps.gov”.

Dated: March 23, 2016.
Michael Bean,
Principal Deputy Assistant Secretary for Fish and Wildlife and Parks.

[FR Doc. 2016-07370 Filed 3-31-16; 8:45 am]

BILLING CODE 4310-EJ-P